DEPARTMENT OF TRANSPORTATION

Federal Motor Carrier Safety Administration

[Docket No. FMCSA-2009-0294; FMCSA-2011-0326; FMCSA-2011-0327; FMCSA-2011-0367; FMCSA-2013-0192; FMCSA-2015-0340; FMCSA-2015-0341]

Qualification of Drivers; Exemption Applications; Diabetes

AGENCY: Federal Motor Carrier Safety Administration (FMCSA), DOT.

ACTION: Notice of final disposition.

SUMMARY: FMCSA announces its decision to renew exemptions for 53 individuals from its prohibition in the Federal Motor Carrier Safety Regulations (FMCSRs) against persons with insulin-treated diabetes mellitus (ITDM) from operating commercial motor vehicles (CMVs) in interstate commerce. The exemptions enable these individuals with ITDM to continue to operate CMVs in interstate commerce.

DATES: Each group of renewed exemptions were applicable on the dates stated in the discussions below and will expire on the dates stated in the discussions below.

FOR FURTHER INFORMATION CONTACT: Ms. Christine A. Hydock, Chief, Medical Programs Division, 202-366-4001, fmcsamedical@dot.gov, FMCSA, Department of Transportation, 1200 New Jersey Avenue SE, Room W64-224, Washington, DC 20590-0001. Office hours are from 8:30 a.m. to 5:30 p.m., e.t., Monday through Friday, except Federal holidays. If you have questions regarding viewing or submitting material to the docket, contact Docket Services, telephone (202) 366-9826.

SUPPLEMENTARY INFORMATION:

I. Electronic Access

You may see all the comments online through the Federal Document Management System (FDMS) at: http://www.regulations.gov.

Docket: For access to the docket to read background documents or comments, go to http//www.regulations.gov and/or Room W12-140 on the ground level of the West Building, 1200 New Jersey Avenue, SE, Washington, DC, between 9 a.m. and 5 p.m., e.t., Monday through Friday, except Federal holidays.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

II. Background

On February 14, 2018, FMCSA published a notice announcing its decision to renew exemptions for 53 individuals from the insulin-treated diabetes mellitus prohibition in 49 CFR 391.41(b)(3) to operate a CMV in interstate commerce and requested comments from the public (83 FR 6722). The public comment period ended on March 16, 2018, and no comments were received.

As stated in the previous notice, FMCSA has evaluated the eligibility of these applicants and determined that renewing these exemptions would achieve a level of safety equivalent to or greater than the level that would be achieved by complying with the current regulation 49 CFR 391.41(b)(3).

The physical qualification standard for drivers regarding diabetes found in 49 CFR 391.41(b)(3) states that a person is physically qualified to drive a CMV if that person has no established medical history or clinical diagnosis of diabetes mellitus currently requiring insulin for control.

III. Discussion of Comments

FMCSA received no comments in this preceding.

IV. Conclusion

Based upon its evaluation of the 53 renewal exemption applications and comments received, FMCSA confirms its' decision to exempt the following drivers from the rule prohibiting drivers with ITDM from driving CMVs in interstate commerce in 49 CFR 391.41(b)(3):

In accordance with 49 U.S.C. 31136(e) and 31315, the following groups of drivers received renewed exemptions in the month of February and are discussed below:

As of February 1, 2018, and in accordance with 49 U.S.C. 31136(e) and 31315, the following three individuals have satisfied the renewal conditions for obtaining an exemption from the rule prohibiting drivers with ITDM from driving CMVs in interstate commerce (80 FR 81415; 81 FR 45213): Douglas E. Hensley, (MO); John K. Moorhead, (KY); Hugh S. Wacker, (IL).

The drivers were included in docket number FMCSA-2015-0340. Their exemptions are applicable as of February 1, 2018, and will expire on February 1, 2020.

As of February 6, 2018, and in accordance with 49 U.S.C. 31136(e) and 31315, the following six individuals have satisfied the renewal conditions for obtaining an exemption from the rule prohibiting drivers with ITDM from driving CMVs in interstate commerce (76 FR 79756; 77 FR 5873; 81 FR 1281):

Howard A. Betz (OH)

Kevin J. Coppens (ME)

Frank H. Ford, Jr. (PA)

Daniel R. Harris (TX)

Joseph L. Owings (AL)

Jerry H. Small (NC)

The drivers were included in docket number FMCSA-2011-0326. Their exemptions are applicable as of February 6, 2018, and will expire on February 6, 2020.

As of February 10, 2018, and in accordance with 49 U.S.C. 31136(e) and 31315, the following two individuals have satisfied the renewal conditions for obtaining an exemption from the rule prohibiting drivers with ITDM from driving CMVs in interstate commerce (76 FR 78720; 77 FR 7232; 81 FR 1281): Kenneth J. Hill, (OH); Frank E. Ray, (KS).

The drivers were included in docket number FMCSA-2011-0327. Their exemptions are applicable as of February 10, 2018, and will expire on February 10, 2020.

As of February 12, 2018, and in accordance with 49 U.S.C. 31136(e) and 31315, Guy B. Mayes (WA) has satisfied the renewal conditions for obtaining an exemption from the rule prohibiting drivers with ITDM from driving CMVs in interstate commerce (78 FR 78479; 79 FR 13086; 81 FR 1281).

This driver was included in docket number FMCSA-2013-0192. The exemption is applicable as of February 12, 2018, and will expire on February 12, 2020.

As of February 17, 2018, and in accordance with 49 U.S.C. 31136(e) and 31315, the following 26 individuals have satisfied the renewal conditions for obtaining an exemption from the rule prohibiting drivers with ITDM from driving CMVs in interstate commerce (81 FR 1987; 81 FR 36378):

Kevin D. Aaron (PA)

Juan Acevedo (FL)

Eugene O. Carr, Jr. (DE)

Tracy R. Clark (KY)

Jerry L. Coward (NC)

Wesley N. Cubby (NJ)

Michael G. Deschenes (MN)

James C. Detwiler (PA)

Jay E. Diller (PA)

Jose N. Escobar (MD)

Frank J. Gogno (PA)

Michael D. Hashem (MA)

George W. Hauck (LA)

Aseneka K. Igambi (TX)

Hayward G. Jinright (AL)

James S. Kauffman (PA)

Kevin M. Kemp (NJ)

Carlos A. Montano (NY)

Michael J. Payne (MD)

Christopher M. Seals (MS)

Robert Sienkiewicz (MI)

Craig A. Sines (OR)

Joel K. Spencer (AL)

Kendall W. Unruh (MO)

Daniel R. Vilart (WA)

Logan D. Yoder (IN)

The drivers were included in docket number FMCSA-2015-0341. Their exemptions are applicable as of February 17, 2018, and will expire on February 17, 2020.

As of February 22, 2018, and in accordance with 49 U.S.C. 31136(e) and 31315, the following ten individuals have satisfied the renewal conditions for obtaining an exemption from the rule prohibiting drivers with ITDM from driving CMVs in interstate commerce (77 FR 533; 77 FR 10607; 81 FR 1281):

Garry L. Camden (IN)

Loren A. Cox (NY)

Daryl F. Gilbertson (WI)

Alfred Gutierrez, II (OK)

Matthew D. Hulse (KS)

Neil Karvonen (WA)

Earl T. Morton, Jr. (VA)

Richard A. Norstebon (ND)

Donald J. Olbinski (IL)

Kevin E. Risley (IN)

The drivers were included in docket number FMCSA-2011-0367. Their exemptions are applicable as of February 22, 2018, and will expire on February 22, 2020.

As of February 24, 2018, and in accordance with 49 U.S.C. 31136(e) and 31315, the following five individuals have satisfied the renewal conditions for obtaining an exemption from the rule prohibiting drivers with ITDM from driving CMVs in interstate commerce (74 FR 68092; 75 FR 8182; 81 FR 1281):

Daniel C. Druffel (WA)

Gregory J. Godley (WA)

Justin R. Henneinke (CA)

Richard L. Sulzberger (IL)

Dirk Vanstralen (CA)

The drivers were included in docket number FMCSA-2009-0294. Their exemptions are applicable as of February 24, 2018, and will expire on February 24, 2020.

In accordance with 49 U.S.C. 31315, each exemption will be valid for two years from the effective date unless revoked earlier by FMCSA. The exemption will be revoked if the following occurs: (1) The person fails to comply with the terms and conditions of the exemption; (2) the exemption has resulted in a lower level of safety than was maintained prior to being granted; or (3) continuation of the exemption would not be consistent with the goals and objectives of 49 U.S.C. 31136 and 31315.

Issued on: April 23, 2018.
Larry W. Minor,
Associate Administrator for Policy.

[FR Doc. 2018-08916 Filed 4-26-18; 8:45 am]

BILLING CODE 4910-EX-P